DEPARTMENT OF LABOR

Employment And Training Administration

[TA-W-56,849]

Acco Chain and Lifting Products, a Division of FKI Industries, Inc., York, PA; Notice of Termination of Investigation

Pursuant to Section 221 of the Trade Act of 1974, as amended, an investigation was initiated on March 30, 2005 in response to a petition filed by a company official on behalf of workers at Acco Chain and Lifting Products, a division of FKI Industries, Inc., York, Pennsylvania.

The petitioner has requested that the petition be withdrawn. Consequently, the investigation has been terminated.

Signed at Washington, DC, this 4th day of May 2005.
Richard Church,
Certifying Officer, Division of Trade Adjustment Assistance.

[FR Doc. E5-2515 Filed 5-18-05; 8:45 am]

BILLING CODE 4510-30-P